DEPARTMENT OF TRANSPORTATION

Federal Aviation Administration

14 CFR Parts 21, 25, 91, 121, 125, and 129

[Docket No. FAA-1999-6411; Notice No. 99-18]

RIN 2120-AG62

Transport Airplane Fuel Tank System Design Review, Flammability Reduction, and Maintenance and Inspection Requirements

AGENCY: Federal Aviation Administration (FAA), DOT.

ACTION: Proposed rule; reopening of comment period.

SUMMARY: On October 29, 1999, the FAA published a Notice of Proposed Rulemaking (NPRM) that would require design approval holders of certain turbine-powered transport category airplanes to submit substantiation to the FAA that the design of the fuel tank system of previously certificated airplanes precludes the existence of ignition sources within the airplane fuel tanks. The comment period for the notice closed January 27, 2000; however, the FAA is reopening the comment period in response to a request from the public to allow additional time to develop comments in response to the notice.

DATES: Comments must be received on or before March 27, 2000.

ADDRESSES: Comments on this proposed rulemaking should be mailed, or delivered in duplicate, to: U.S. Department of Transportation Dockets, Docket No. FAA-1999-6411, 400 Seventh Street, SW., Room Plaza 401, Washington, DC 20590. Comments may be filed and examined in Room Plaza 401 between 10 a.m. and 5 p.m. weekdays, except Federal holidays. Comments also may be sent electronically to the Dockets Management System (DMS) at the following Internet address: http//dms.dot.gov at any time Commenters who wish to file comments electronically should follow the instructions on the DMS web site.

FOR FURTHER INFORMATION CONTACT: Michael E. Dostert, FAA, Propulsion/Mechanical Branch, ANM-112, Transport Airplane Directorate, Aircraft Certification Service, 1601 Lind Avenue SW., Renton, Washington 98055-4056, telephone (425) 227-2132; facsimile (425) 227-1320; e-mail: mike.dostert@faa.gov.

SUPPLEMENTARY INFORMATION:

Comments Invited

Interested persons are invited to participate in the making of the proposed action by submitting such written data, views, or arguments as they may desire. Comments relating to the environmental, energy, federalism, or economic impact that might result from adopting the proposals in this document also are invited. Substantive comments should be accompanied by cost estimates. Comments must identify the regulatory docket or notice number and be submitted in duplicate to the DOT Rules Docket address specified above.

All comments received, as well as a report summarizing each substantive public contact with FAA personnel concerning this proposed rulemaking, will be filed in the docket. The docket is available for public inspection before and after the comment closing date.

All comments received on or before the closing date will be considered by the Administrator before taking action on this proposed rulemaking. Comments filed late will be considered as far as possible without incurring expense or delay. The proposals in this document may be changed in light of the comments received.

Commenters wishing the FAA to acknowledge receipt of their comments submitted in response to this document must include a pre-addressed, stamped postcard with those comments on which the following statement is made: “Comments to Docket No. FAA-1999-6411.” The postcard will be date stamped and mailed to the commenter.

Availability of NPRMs

An electronic copy of this document may be downloaded using a modem and suitable communications software from the FAA regulations section of the FedWorld electronic bulletin board service (telephone: (703) 321-3339) or the Government Printing Office (GPO)'s electronic bulletin board service (telephone: (202) 512-1661.

Internet users may reach the FAA's web page at http://www.faa.gov/avr/arm/nprm/nprm.htm or the GPO's web page at http://www.access.gop.gov/nara for access to recently published rulemaking documents.

Any person may obtain a copy of this document by submitting a request to the Federal Aviation Administration, Office of Rulemaking, ARM-1, 800 Independence Avenue SW., Washington, DC 20591, or by calling (202) 267-9680. Communications must identify the notice number or docket number of this NPRM.

Persons interested in being placed on the mailing list for future rulemaking documents should request from the above office a copy of Advisory Circular No. 11-2A. Notice of Proposed Rulemaking Distribution System, which describes the application procedure.

Background

On October 29, 1999, the FAA published in the Federal Register (64 FR 58644) Notice No. 99-18, “Transport Airplane Fuel Tank System Design Review, Flammability Reduction, and Maintenance and Inspection Requirements.” The proposed rule would require design approval holders of certain turbine-powered transport category airplanes to submit substantiation to the FAA that the design of the fuel tank system of previously certificated airplanes precludes the existence of ignition sources within the airplane fuel tanks. It would also require the affected design approval holders to develop specific fuel tank system maintenance and inspection instructions for any items in the fuel tank system that are determined to require repetitive inspections or maintenance, to assure the safety of the fuel tank system. In addition, the proposed rule would require certain operators of those airplanes to incorporate FAA-approved fuel tank system maintenance and inspection instructions into their current maintenance or inspection program.

By letter dated December 8, 1999, the Air Transport Association (ATA) requested that the comment period for Notice 99-18 be extended to allow additional time to study and understand the implications of what they consider to be a very complex proposal, and to provide a constructive response. The commenter states that the advisory materials referenced in the notice, which are to provide guidance on performing the proposed safety review, have not been available for comment, leaving the airlines and industry having to respond to the notice without the full details of its implication available to them.

Reopening of Comment Period

The FAA has reviewed the request for reconsideration of an extended comment period for Notice No. 99-18 and has determined that an extension would be in the public interest, and that good cause exists for taking this action. We apologize for the delay in publishing the advisory material. Work on the draft advisory circulars (AC 25.981-1X, Fuel Tank Ignition Source Prevention Guidelines, and AC 25.981-2X. Fuel Tank Flammability Minimizations) was recently completed. A notice requesting public comments has been published in an earlier issue of the Federal Register.

The comment period on Notice 99-18 closed on January 27, 2000. To provide all interested persons with additional time to review the NPRM and the corresponding advisory material, the FAA finds that it is in the public interest to reopen the comment period for an additional 60 days beyond the original period closing date.

Issued in Washington, DC, on February 11, 2000.
Nancy C. Lane,
Acting Director, Aircraft Certification Service.

[FR Doc. 00-3703 Filed 2-15-00; 8:45 am]

BILLING CODE 4910-13-M